DEPARTMENT OF ENERGY

Federal Energy Regulatory Commission

[Docket No. AD10-14-000]

Reliability Standards Development and NERC and Regional Entity Enforcement; Further Notice Concerning Technical Conference

June 30, 2010.

Take notice that on July 6, 2010, the Federal Energy Regulatory Commission will convene a Commissioner-led technical conference regarding issues pertaining to the development of mandatory Reliability Standards for the Bulk-Power System by the North American Electric Reliability Corporation and the Regional Entities as previously announced.¹

¹ Notice of Technical Conference, 75 FR 35,021 (issued June 15, 2010), as supplemented by Supplemental Notice of Technical Conference, 75 FR 36,385 (issued June 18, 2010).

In addition to the rulemaking proceedings where the Commission acted on March 18, 2010, the discussions at this public conference may address matters related to the following additional proceedings:

Docket No. RR09-6-000, North American Electric Reliability Corporation (Directed ERO to develop proposed modification to ERO Rules of Procedure)

Docket No. RR09-7-000, North American Electric Reliability Corporation (NERC's Three-Year Performance Assessment Report)

Docket No. RR10-12-000, North American Electric Reliability Corporation (Reliability Standard Processes Manual Revisions)

For more information, please contact Sarah McKinley, 202-502-8368, Sarah.Mckinley@ferc.gov for logistical issues, and either Karin Larson at 202-502-8236, Karin.Larson@ferc.gov or Christopher Young at 202-502-6403, Christopher.Young@ferc.gov for other concerns.

Kimberly D. Bose,
Secretary.

[FR Doc. 2010-16557 Filed 7-7-10; 8:45 am]

BILLING CODE 6717-01-P